DEPARTMENT OF AGRICULTURE

Food and Nutrition Service

Agency Information Collection Activities: School Meals Operations Study: Evaluation of the School-Based Child Nutrition Programs

AGENCY: Food and Nutrition Service (FNS), Department of Agriculture (USDA).

ACTION: Notice.

SUMMARY: In accordance with the Paperwork Reduction Act of 1995, this notice announces FNS' plans to submit an Information Collection Request (ICR) to the Office of Management and Budget (OMB) and invites the general public and other public agencies to comment on the proposed ICR before FNS submits it to OMB. The proposed information collection is a revision of an approved information collection. The approved information collection (OMB Control Number 0584-0607) permitted the School Meals Operations (SMO) study to collect survey and administrative data about school year (SY) 2019-2020 through SY 2022-2023 from a census of State agencies, and survey data about SY 2020-2021 and SY 2022-2023 from a nationally representative sample of school food authorities. With the revision, FNS will seek approval for the SMO study to collect survey and administrative data about SY 2023-2024 from a census of State agencies. The SMO study will not collect survey data about SY 2023-2024 from school food authorities.

DATES: Written comments must be received on or before July 2, 2024.

ADDRESSES: Comments may be sent to: Darcy Güngör at darcy.gungor@usda.gov. Comments will also be accepted through the Federal eRulemaking Portal. Go to http://www.regulations.gov, and follow the online instructions for submitting comments electronically.

All responses to this notice will be summarized and included in the request for OMB approval. All comments will be a matter of public record.

FOR FURTHER INFORMATION CONTACT: Requests for additional information or copies of this information collection should be directed to Darcy Güngör at darcy.gungor@usda.gov, 703-305-4345.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: School Meals Operations Study.

Form Number: N/A.

OMB Number: 0584-0607.

Expiration Date: 08/31/2026.

Type of Request: Revision of a currently approved collection.

Abstract: Section 28(a) of the Richard B. Russell National School Lunch Act authorizes the USDA Secretary to conduct annual national performance assessments of the school meal programs, which include the National School Lunch Program (NSLP) and School Breakfast Program (SBP). The School Meals Operations (SMO) study was originally planned to conduct this annual assessment. When the COVID-19 pandemic closed schools and disrupted NSLP and SBP operation, the SMO study collected data about the Child Nutrition (CN) Programs used to feed children during the pandemic, which included the NSLP Seamless Summer Option (SSO), Summer Food Service Program (SFSP), and Child and Adult Care Food Program (CACFP) in addition to NSLP and SBP. SMO study data correspond to school year (SY) 2019-2020 through SY 2022-2023, and help FNS answer annual research questions about (1) CN Program participation, (3) meal counting, (4) financial management, and (5) CN Program integrity.

The proposed information collection is a minor revision. It will collect data about SY 2023-2024. As in previous study years, the respondents will be the State agencies that administer NSLP, SBP, SSO, SFSP, and CACFP in the 50 states, 3 territories, and District of Columbia. It will use the same administrative data request as previous years and an updated survey. The updated survey will collect timely data on policy, administrative, and operational issues for the CN Programs. This information collection will help FNS obtain:

1. General descriptive data on the characteristics of CN Programs to inform the budget process and answer questions about topics of current policy interest;

2. Data on CN Program operations to identify potential topics for training and technical assistance for States agencies and school food authorities responsible for administering the Programs; and

3. Administrative data to identify CN Program trends and predictors.

The activities that will be conducted subject to this notice include:

1. Collecting disaggregated administrative data from an estimated 68 State CN Directors (these data are reported in aggregate on forms FNS-10, Report of School Program Operations, FNS-418, Report of the Summer Food Service Program for Children, and FNS-44, Report of the Child and Adult Care Food Program, under OMB Control Number 0584-0594, expiration date 09/30/2026).

2. Conducting a web survey of an estimated 54 of the 68 State CN Directors above.

All 68 respondents will receive one email with an attached study brochure from their FNS Regional Office expressing their support of the study, and will receive one advance email from the study team to summarize the upcoming data collection activities. The subset of 54 respondents who will take the survey will receive one invitation email. They will complete the web survey one time. They may receive reminder emails, phone calls, and a last chance postcard until they have all responded. The 68 respondents who will be asked to submit administrative data will have one telephone meeting with the study team to describe the data request and will respond to the FNS-10, FNS-418, or FNS-44 administrative data request one time. They may receive reminder emails and phone calls until they have all responded.

To reduce data collection burden, the SMO study will analyze existing administrative data to reduce the number and type of questions included in the survey. The survey will take an estimated 30 minutes to complete.

To facilitate the collection of administrative data, State agencies will receive an agenda for initial telephone meetings and a template for the data request. The data request template will link each data element to the corresponding item number on forms FNS-10, FNS-418, and FNS-44. Examples of the types of data that the administrative request will respond to include number of schools and students participating in the meal programs and the number of meals served under the meal programs.

Note: Personally identifiable information will not be used to retrieve survey records or data.

Affected Public: State Governments: State Agency Directors from the 50 States, 3 territories, and the District of Columbia that oversee NSLP, SBP, SSO, SFSP, and CACFP.

Estimated Number of Respondents: 68 unique respondents.

Estimated Number of Responses per Respondent: Average of 9.9 (671 responses/68 unique respondents).

Estimated Total Annual Responses: 671.

Estimated Time per Response: Average of 1.4 hours (0.05 to 6 hours depending on the instrument).

Estimated Total Annual Burden on Respondents: 941.2 hours.

BILLING CODE 3410-30-P

Tameka Owens,
Assistant Administrator, Food and Nutrition Service.

[FR Doc. 2024-09678 Filed 5-2-24; 8:45 am]

BILLING CODE 3410-30-C